DEPARTMENT OF TRANSPORTATION

Research and Special Programs Administration Office of Hazardous Materials Safety; Notice of Application for Exemptions

AGENCY: Research and Special Programs Administration, DOT.

ACTION: List of applications for exemption.

SUMMARY: In accordance with the procedures governing the application for, and the processing of, exemptions from the Department of Transportation's Hazardous Material Regulations (49 CFR part 107, subpart B), notice is hereby given that the Office of Hazardous Materials Safety has received the application described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before August 23, 2004.

ADDRESSES COMMENTS TO: Record Center, Research and Special Programs Administration, U.S. Department of Transportation, Washington, DC 20590.

Comments should refer to the application number and be submitted in triplicate. If Confirmation of receipt of comments is desired, include a self-addressed stamped postcard showing the exemption number.

FOR FURTHER INFORMATION CONTACT: Copies of the applications are available for inspection in the Records Center, Nassif Building, 400 7th Street SW., Washington, DC or at http://dms.dot.gov.

This notice of receipt of applications for modification of exemption is published in accordance with Part 107 of the Federal hazardous materials transportation law (49 U.S.C. 5117(b); 49 CFR 1.53(b)).

Issued in Washington, on July 15, 2004.
R. Ryan Posten,
Exemptions Program Officer, Office of Hazardous Materials Safety Exemptions & Approvals.

Application No. | Docket No. | Applicant | Regulation(s) affected | Nature of exemption thereof
NEW EXEMPTION
13576-N |  | Scott Specialty Gases, Inc. Plumsteadville, PA | 49 CFR 173.302a(a)(1) | To authorize the transportation in commerce of certain compressed gases in DOT specification 2Q containers. (modes 1, 2, 3, 4).
13577-N |  | Scott Specialty Gases, Inc. Plumsteadville, PA | 49 CFR 173.306(a)(3)(ii) | To authorize the transportation in commerce of refrigerant 134a to be shipped as a limited quantity compressed gas. (modes 1, 2, 3, 4).
13578-N |  | Scott Specialty Gases, Inc. Plumsteadville, PA | 49 CFR 173.304(d)(3)(ii) | To authorize the transportation in commerce of certain non-DOT specification inside metal containers similar to a DOT specification 2Q for use in transporting certain Division 2.1 material. (modes 1, 2, 3, 4).
13579-N |  | Scott Specialty Gases, Inc. Plumsteadville, PA | 49 CFR 173.302a(a)(1) | To authorize the transportation in commerce of certain Division 2.2 compressed gases in DOT specification 2Q containers. (modes 1, 2, 3, 4).
13598-N |  | Jadoo Power Systems Inc. Folsom, CA | 49 CFR 173.301(a)(1), (d) and (f) | To authorize the manufacture, mark, sale and use of a specially designed device for use in transporting certain Division 2.1 hazardous materials. (modes 1, 2, 3, 4).
13599-N |  | Air Products and Chemicals, Inc. Allentown, PA | 49 CFR 173.304a(a)(2) | To authorize the transportation in commerce of certain DOT-specification cylinders with alternative filling densities/ratios. (modes 1, 2, 3).
13601-N |  | DS Containers, Inc. Lemont, IL | 49 CFR 173.306(b)(1); 175.3 | To authorize the transportation in commerce of certain aerosol cans with alternative filling criteria. (modes 1, 2, 3, 4, 5).
13636-N |  | Timberline Environmental Services Cold Springs, CA | 49 CFR 173.62 | To authorize the transportation in commerce of certain Division 1.3S waste hazardous materials for disposal. (mode 1).

[FR Doc. 04-16654 Filed 7-21-04; 8:45 am]

BILLING CODE 4909-60-M